DEPARTMENT OF TRANSPORTATION

Federal Aviation Administration

[Summary Notice No. PE-2000-33]

Petitions for Exemption; Summary of Petitions Received; Dispositions of Petitions Issued

AGENCY: Federal Aviation Administration (FAA), DOT.

ACTION: Notice of petitions for exemption received and of dispositions of prior petitions.

SUMMARY: Purusant to FAA's rulemaking provisions governing the application, processing, and disposition of petitions for exemption (14 CFR Part 11), this notice contains a summary of certain petitions seeking relief from specified requirements of the Federal Aviation Regulations (14 CFR Chapter I), dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before August 23, 2000.

ADDRESSES: Send comments on any petition in triplicate to: Federal Aviation Administration, Office of the Chief Counsel, Attn: Rule Docket (AGC-200), Petition Docket No. _____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Cherie Jack (202) 267-7271, Forest Rawls (202) 267-8033, or Vanessa Wilkins (202) 267-8029 Office of Rulemaking (ARM-1), Federal Aviation Administration, 800 Independence Avenue, SW., Washington, DC 20591.

This notice is published pursuant to paragraphs (c), (e), and (g) of § 11.27 of Part 11 of the Federal Aviation Regulations (14 CFR Part 11).

Issued in Washington, DC, on July 28, 2000.
Donald P. Byrne,
Assistant Chief Counsel for Regulations.

Dispositions of Petitions

Docket No.: 29190.

Petitioner: Mr. Craig Roy Bailey.

Section of the FAR Affected: 14 CFR 91.109(a) and (b)(3).

Description of Relief Sought/Disposition: To permit Mr. Craig Roy Bailey to conduct certain flight instruction and simulated instrument flights to meet recent instrument experience requirements in certain Beechcraft airplanes equipped with a functioning throwover control wheel in lieu of functioning dual controls.

Grant, 05/19/00, Exemption No. 6763A

Docket No.: 30053.

Petitioner: Sabre Society of North Carolina.

Section of the FAR Affected: 14 CFR 135.251, 135.255, 135.353, and appendixes I and J to part 121.

Description of Relief Sought/Disposition: To permit SSNA to conduct local sightseeing flights at Hickory Regional Airport, Hickory, NC, for a two-day charitable event in May 2000, for compensation or hire without complying with certain anti-drug and alcohol misuse prevention requirements of part 135.

Grant, 05/19/00, Exemption No. 7219

Docket No.: 29944.

Petitioner: Palmyra Flying Club, Inc.

Section of the FAR Affected: 14 CFR 135.251, 135.255, 135.353, and appendixes I and J to part 121.

Description of Relief Sought/Disposition: To permit PFC to conduct local sightseeing flights at Palmyra Airport, Palmyra, Wisconsin, for its one-day fly-in breakfast in June 2000, for compensation or hire, without complying with certain anti-drug and alcohol misuse prevention requirements of part 135.

Grant, 05/19/00, Exemption No. 7220

Docket No.: 28546.

Petitioner: The Ranch Parachute Club, Ltd.

Section of the FAR Affected: 14 CFR 105.43(a).

Description of Relief Sought/Disposition: To permit nonstudent parachutists who are foreign nationals to participate in parachute-jumping events sponsored by The Ranch at its facilities without complying with the parachute equipment and packing requirements of 14 CFR.

Grant, 05/19/00, Exemption No. 6494B

Docket No.: 29672.

Petitioner: Corpac Canada, Ltd.

Section of the FAR Affected: 14 CFR 129.18(b).

Description of Relief Sought/Disposition: To permit Corporate Express to conduct nonscheduled, charter operations in the United States without an approved Traffic Alert and Collision Avoidance System (TCAS) installed in each of its British Aerospace Jetstream 31 airplanes.

Denial, 05/19/00, Exemption No. 7227

Docket No.: 29170.

Petitioner: Mr. Roland R. Cowser.

Section of the FAR Affected: 14 CFR 91.109(a) and (b)(3).

Description of Relief Sought/Disposition: To permit Mr. Roland R. Cowser to conduct certain flight instruction and simulated instrument flights to meet recent instrument experience requirements in certain Beechcraft airplanes equipped with a functioning throwover control wheel in lieu of functioning dual controls

Grant, 5/19/00, Exemption No. 6761A

Docket No.: 27821.

Petitioner: City of Cedar Rapids Police Department Air Support Division.

Section of the FAR Affected: 14 CFR 91.209(a) and (b).

Description of Relief Sought/Disposition: To permit CRPD to conduct air operations in support of law enforcement and drug interdiction without illuminating the lighted position and anticollision aircraft lights required by § 91.209.

Grant, 5/19/00, Exemption No. 6780A

Docket No.: 29979.

Petitioner: Chicago Express Airlines, Inc.

Section of the FAR Affected: 14 CFR 121.434(c)(1)(ii).

Description of Relief Sought/Disposition: To permit CEA to substitute a qualified and authorized check airman in place of an FAA inspector to observe a qualifying PIC who is completing initial or upgrade training specified in § 121.424 during at least one flight leg that includes a takeoff and a landing.

Grant, 5/19/00, Exemption No. 7288

Docket No.: 30002.

Petitioner: Ross Aviation, Inc.

Section of the FAR Affected: 14 CFR 145.45(f).

Description of Relief Sought/Disposition: To permit Ross make its repair station Inspection Procedures Manual (IPM) available electronically to its supervisory, inspection, and other personnel, rather than give a paper copy of the IPM to each of its supervisory and inspection personnel.

Grant, 5/19/00, Exemption No. 7229

Docket No.: 30008.

Petitioner: Grant Aviation, Inc.

Section of the FAR Affected: 14 CFR 135.143(c)(2).

Description of Relief Sought/Disposition: To permit Grant Aviation to operate certain aircraft under part 135 without a TSO-C112 (Mode S) transponder installed in the aircraft.

Grant, 5/22/00, Exemption No. 7221

Docket No.: 30026.

Petitioner: Blue Ash Airport Days 2000.

Section of the FAR Affected: 14 CFR 135.251, 135.244, 135.251, and appendixes I and J to part 121.

Description of Relief Sought/Disposition: To permit BAAD to conduct local sightseeing flights at Blue Ash Airport, Cincinnati, Ohio, for Blue Ash Airport Days 2000 on June 10 and 11, 2000, for compensation or hire, without complying with certain anti-drug and alcohol misuse prevention requirements of part 135.

Grant, 5/22/00, Exemption No. 7222

Docket No.: 30046.

Petitioner: Mr. Dennis N. Odem and Mr. John S. Odem.

Section of the FAR Affected: 14 CFR 135.251, 135.244, 135.353, and appendixes I and J to part 121.

Description of Relief Sought/Disposition: To permit Mr. Dennis N. Odem and Mr. John S. Odem to conduct local sightseeing flights in the vicinity of Florence, Alabama, for the four-day Alabama Jubilee Hot Air Balloon festival in May 2000, for compensation or hire, without complying with certain anti-drug and alcohol misuse prevention requirements of part 135.

Grant, 5/23/00, Exemption No. 7224

[FR Doc. 00-19528 Filed 8-1-00; 8:45 am]

BILLING CODE 4910-13-M